DEPARTMENT OF TRANSPORTATION

Maritime Administration

[Docket No. MARAD-2025-0300]

Request for Comments on the Renewal of a Previously Approved Collection: U.S. Merchant Marine Academy (USMMA) Alumni Survey

AGENCY: Maritime Administration, DOT.

ACTION: Notice.

SUMMARY: The Maritime Administration (MARAD) invites public comments on its intention to request Office of Management and Budget (OMB) approval to renew an information collection in accordance with the Paperwork Reduction Act of 1995. The proposed collection OMB 2133-0542 (U.S. Merchant Marine Academy (USMMA) Alumni Survey) is being updated to include the following minor changes: removal of gender related questions, a reworded question to reflect USMMA's current learning outcomes, alignment of salary ranges to the current market, and disaggregation of cohort groups at the academic major level. MARAD is required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Dr. Lori Townsend, 516-726-5637, U.S. Merchant Marine Academy, 300 Steamboat Road, Kings Point, NY 11024, Email: assessment@usmma.edu.

SUPPLEMENTARY INFORMATION:

Title: U.S. Merchant Marine Academy (USMMA) Alumni Survey.

OMB Control Number: 2133-0542.

Type of Request: Extension with change of a currently approved collection.

Abstract: USMMA is an accredited Federal service academy that confers Bachelor of Science and Master of Science degrees. USMMA is expected to assess its educational outcomes and report those findings to its regional and programmatic accreditation authorities in order to maintain the institution's degree granting status. Periodic survey of alumni cohorts and analysis of the data gathered is a routine higher education assessment practice in the United States.

Respondents: Graduates of USMMA who completed the program within the last one to ten years.

Affected Public: USMMA Graduates.

Estimated Number of Respondents: 600.

Estimated Number of Responses: 600.

Estimated Hours per Response: 0.25.

Annual Estimated Total Annual Burden Hours: 150.

Frequency of Response: Annually.

A 60-day Federal Register Notice soliciting comments on this information collection was published on May 5, 2025 (90 FR 19086).

(Authority: The Paperwork Reduction Act of 1995; 44 U.S.C. Chapter 35, as amended; and 49 CFR 1.49.)

By Order of the Maritime Administration.
T. Mitchell Hudson, Jr.
Secretary, Maritime Administration.

[FR Doc. 2025-14509 Filed 7-30-25; 8:45 am]

BILLING CODE 4910-81-P